Proclamation 7476 of October 1, 2001

Child Health Day, 2001

By the President of the United States of America

A Proclamation

Many of us fondly remember the joys and challenges of childhood and appreciate the endless sacrifices that our families made to love, protect, and encourage us as we grew into adulthood. On Child Health Day, we take time as parents and concerned citizens to assess the health and well-being of our children and to reaffirm our commitment to nurture and care for them in the best way possible.

To secure the strength and continued growth of our great Nation, we must work to provide all of our children with the opportunities and tools they must have to succeed. From quality health care and safe living environments to emotional support and timely encouragement, our children need and deserve our utmost attention.

In light of the tragic terrorist attacks of September 11, 2001, we must redouble our efforts to ensure that our children feel safe. We must listen carefully to them and help them express and work through feelings of fear, confusion, and sorrow. And, most importantly, we must let them know that they are loved. Children who feel loved and supported can better reach their full potential and achieve their dreams.

As parents, teachers, and neighbors, we must be aware of, and work to prevent, the physical, emotional, and psychological threats that potentially endanger our children. Parents must be vigilant in ensuring that their children are immunized against preventable diseases. They should check their homes for cleaning products, gases, and other hazards, including lead-based paint, radon, carbon monoxide, and allergens that may cause chronic illnesses, respiratory disorders, and sometimes death. Children should be taught to be wary of strangers who approach them and to seek the help of someone they trust when faced with uncomfortable situations. We also must use innovative teaching methods to encourage our children to develop positive habits such as regular exercise, good nutrition, abstinence from drugs, alcohol, and inappropriate sexual behavior, and good personal hygiene.

Our steadfast commitment to the health and welfare of our children is especially important for those who have special health care needs. Children who suffer from chronic physical, developmental, behavioral, and emotional conditions require specialized services in their communities. I encourage parents and caretakers to recognize these health problems, to obtain specialized care as necessary, and to monitor their children's conditions closely in order to give them every advantage toward leading a successful, fulfilling life.

My Administration is strongly committed to supporting families and children in need and to improving our education system so that no child is left behind. Let us work together as individuals, families, communities, and Americans to ensure that the health of our children always remains a national priority. The Congress, by a joint resolution approved May 18, 1928, as amended (U.S.C. 105), has called for the designation of the first Monday in October as “Child Health Day” and has requested the President to issue a proclamation in observance of this day.

NOW, THEREFORE, I, GEORGE W. BUSH, President of the United States of America, do hereby proclaim Monday, October 1, 2001, as Child Health Day. On this day, and on every day throughout the year, I call upon families, schools, child health professionals, communities, and governments to dedicate themselves to fostering the healthy development and well-being of all our children—especially those with special health care needs.

IN WITNESS WHEREOF, I have hereunto set my hand this first day of October, in the year of our Lord two thousand one, and of the Independence of the United States of America the two hundred and twenty-sixth.

B

[FR Doc. 01-25041

Filed 10-3-01; 8:45 am]

Billing code 3195-01-P